DEPARTMENT OF HEALTH AND HUMAN SERVICES

Indian Health Service

Health Professions Preparatory, Health Professions Pregraduate and Indian Health Professions Scholarship Programs; Correction

ACTION: Notice; correction.

SUMMARY: The Indian Health Service published a document in the Federal Register on January 19, 2005. The document contained one error.

FOR FURTHER INFORMATION CONTACT: Mr. Jess Brien, Chief, Scholarship Branch, Indian Health Service, 801 Thompson Avenue, Suite 120, Rockville, Maryland 20852; telephone 301-443-6197. (This is not a toll-free number.)

Correction

In the Federal Register of January 19, 2005, in FR Doc. 05-1030, on page 3046, in the second column, correct the Application Review Date to read April 18-April 22, 2005.

Dated: February 28, 2005.
Robert G. McSwain,
Deputy Director, Indian Health Service.

[FR Doc. 05-4479 Filed 3-7-05; 8:45 am]

BILLING CODE 4160-16-M